DEPARTMENT OF JUSTICE

Notice of Consent Decree Pursuant to the Clean Water Act

In accordance with Departmental Policy, 28 CFR 50.7, notice is hereby given that a proposed consent decree in United States and State of Oklahoma v. City of Okmulgee and Okmulgee Public Works Authority, Civ. No. 06-009-SH, DOJ #90-5-1-1-07445, was lodged in the United States District Court for the Eastern District of Oklahoma on January 9, 2006. The Consent Decree resolves the liability of the named defendants to the United States and the State of Oklahoma for violations of Section 301 and 311 of the Clean Water Act, 33 U.S.C. 1311 and 1321 (“Act”), and state law, and for related damages to natural resources within the Deep Fork River, within the Deep Fork National Wildlife Refuge, from the discharge of pollutants from the City's publicly owned treatment works and sanitary sewer collection system in violation of the Act, National Pollutant Discharge Elimination System (“NPDES”) and Oklahoma Pollutant Discharge Elimination System (“OPDES”) permits, and Title 27A of the Oklahoma Statutes.

Under the proposed Consent Decree, Defendants are required to upgrade the Okmulgee facility and sanitary sewer collection system in accordance with schedules specified in the Consent Decree at a cost of approximately $18.5 million. Defendants also must abide by operation and maintenance requirements set forth in the Decree. Additionally, Defendants will pay a civil penalty totaling $470,000 and will pay the sum of $430,000 to the U.S. Department of the Interior for natural resource damages.

The Department of Justice will receive for a period of thirty (30) days from the date of this publication comments relating to the proposed Consent Decree. Comments should be addressed to the Assistant Attorney General, Environment and Natural Resources Division, P.O. Box 7611, U.S. Department of Justice, Washington, DC 20044-7611, and should refer to United States and State of Oklahoma v. City of Okmulgee and Okmulgee Public Works Authority, DOJ #90-5-1-1-07445.

The proposed Consent Decree may be examined at the Office of the United States Attorney, Eastern District of Oklahoma, 1200 West Okmulgee, Muskogee, Oklahoma 74401, and at U.S. EPA Region 6, 1445 Ross Avenue, Suite 1200, Dallas, Texas 75202. During the public comment period, the proposed Consent Decree may also be examined on the following Department of Justice Web site, http://www.usdoj.gov/enrd/open.html. A copy of the proposed Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $17.00 for the Consent Decree, or $131.50 for the Consent Decree with appendices (25 cents per page reproduction cost) payable to the U.S. Treasury.

Thomas A. Mariani, Jr.,
Assistant Chief, Environmental Enforcement Section, Environment and Natural Resources Division.

[FR Doc. 06-1185 Filed 2-8-06; 8:45 am]

BILLING CODE 4410-15-M